DEPARTMENT OF ENERGY

[Docket No. PP-305]

Notice of Availability of Draft Environmental Impact Statement and Public Hearings for the Proposed Montana Alberta Tie Ltd. International Transmission Line

AGENCY: U.S. Department of Energy.

ACTION: Notice of availability and public hearings.

SUMMARY: The Department of Energy (DOE) and the Montana Department of Environmental Quality (DEQ) as co-lead agencies, with the Department of the Interior's Bureau of Land Management (BLM) as a cooperating agency (together, the “Agencies”), announce the availability of the “Federal Draft Environmental Impact Statement and the State of Montana Supplemental Draft Environmental Impact Statement for the Montana Alberta Tie Ltd. (MATL) 230-kV Transmission Line” (DOE/EIS-0399) for public review and comment. The Agencies also announce three public hearings on the Draft EIS. The Draft EIS evaluates the environmental impacts of DOE's proposed Federal action of issuing a Presidential permit to MATL for the construction, operation, maintenance, and connection of a 230-kilovolt electric transmission line that would cross the U.S.-Canada border in the vicinity of Cut Bank, Montana. The proposed DEQ action is the issuance of a certificate of compliance under the Montana Facility Siting Act (MFSA) for construction of the electric transmission line within the State of Montana. BLM's proposed Federal action is issuance of a right-of-way grant to allow the transmission line to cross Federal lands within BLM's management responsibility.

DATES: The Agencies invite interested Members of Congress, state and local governments, other Federal agencies, American Indian tribal governments, organizations, and members of the public to provide comments on the Draft EIS during the public comment period. The public comment period started on February 15, 2008, with the publication in the Federal Register (73 FR 8869) by the U.S. Environmental Protection Agency of the Notice of Availability of the Draft EIS, and will continue until March 31, 2008. Written and oral comments will be given equal weight and all comments received or postmarked by that date will be considered by the Agencies in preparing the Final EIS. Comments received or postmarked after that date will be considered to the extent practicable.

Dates for the public hearings are:

1. March 11, 2008, 6-9 p.m., Great Falls, Montana.

2. March 12, 2008, 6-9 p.m., Cut Bank, Montana.

3. March 13, 2008, 6-9 p.m., Conrad, Montana.

Requests to speak at a specific public hearing should be received by Mr. Tom Ring as indicated in the ADDRESSES section below on or before March 10, 2008. Requests to speak may also be made at the time of registration for the hearing(s). However, persons who have submitted advance requests to speak will be given priority if time should be limited during the hearing.

ADDRESSES: Requests to speak at the public hearings should be addressed to:

Mr. Tom Ring, Environmental Sciences Specialist, Montana Department of Environmental Quality, P.O. Box 200901, Helena, MT 59620-0901, or (406) 444-6785, or via electronic mail at matl@mt.gov.

The locations of the public hearings are:

1. Civic Center, Missouri Room, Great Falls, Montana.

2. Voting Center, Cut Bank, Montana.

3. Blue Sky Villa, Norley Hall, Conrad, Montana.

Written comments on the Draft EIS may be addressed to Mr. Ring as indicated in the ADDRESSES section of this notice.

FOR FURTHER INFORMATION CONTACT: If you have any questions about the Presidential permit process, please contact Mrs. Ellen Russell at U.S. Department of Energy, Office of Electricity Delivery and Energy Reliability, Mail Stop OE-20, 1000 Independence Ave., SW., Washington, DC 20585, by telephone at 202-586-9624, or by electronic mail at Ellen.Russell@hq.doe.gov.

For general information on the DOE NEPA process, contact Carol M. Borgstrom, Director, Office of NEPA Policy and Compliance (GC-20), U.S. Department of Energy 1000 Independence Avenue, SW., Washington, DC 20585, Phone: 202-586-4600 or leave a message at 800-472-2756; Facsimile: 202-586-7031.

If you have questions about the Montana MFSA siting process, please contact Mr. Ring at the address provided above. For general information on the State of Montana Environmental Policy Act process contact Greg Hallsten, Environmental Science Specialist, at the same above address or by phone at 406-444-3276.

Availability of the Draft EIS

Copies of the Draft EIS have been distributed to appropriate Members of Congress, state and local government officials in Montana, American Indian tribal governments, and other Federal agencies, groups, and interested parties. Printed copies of the document may be obtained by contacting Mr. Ring at the above address. Copies of the Draft EIS and supporting documents are also available for inspection in Montana at the Conrad Public Library, Cut Bank Public Library, Dutton Public Library, Great Falls Public Library, and the Montana State Library. The Draft EIS is also available on the DOE NEPA Web site at http://www.eh.doe.gov/nepa/documentspub.html or on the State of Montana project Web site at http://www.deq.mt.gov/mfs/MATL.asp.

Issued in Washington, DC, on February 15, 2008.
Ellen Russell,
Acting Director, Permitting and Siting, Office of Electricity Delivery and Energy Reliability.

[FR Doc. E8-3292 Filed 2-20-08; 8:45 am]

BILLING CODE 6450-01-P